DEPARTMENT OF TRANSPORTATION

Federal Railroad Administration

[Docket No. FRA-2013-0067]

Hazardous Materials: Improving the Safety of Railroad Transportation of Hazardous Materials

AGENCY: Pipeline and Hazardous Materials, Safety Administration (PHMSA), Federal Railroad Administration (FRA), Department of Transportation (DOT).

ACTION: Announcement of public meeting and establishment of public docket.

SUMMARY: FRA and PHMSA invite interested persons to participate in a public meeting addressing the transportation of hazardous materials by rail. FRA and PHMSA are undertaking a comprehensive review of operational factors that affect the safety of the transportation of hazardous materials by rail and are seeking input from stakeholders and interested parties.

DATES: The public meeting is scheduled for August 27-28, 2013, from 8:30 a.m. until 4:30 p.m.

ADDRESSES: The public meeting will be held in the Oklahoma Room in the DOT Conference Center, 1200 New Jersey Avenue SE., Washington, DC 20590.

In order to ensure that all interested parties are provided ample opportunity to speak at the meeting, any person wishing to present an oral statement should notify Mr. Kurt Eichenlaub, Railroad Safety Specialist, Hazardous Materials Division, Office of Safety Assurance and Compliance, FRA, at least 4 business days prior to the date of the public meeting. Mr. Eichenlaub can be reached at (202) 493-6050 or Kurt.Eichenlaub@dot.gov. To request special assistance or services for persons with disabilities, please contact Mr. Eichenlaub as soon as possible.

FRA will make a teleconference line available for any interested party who wishes to attend the meeting by phone. Anyone interested in attending by phone should contact Mr. Eichenlaub prior to the meeting to obtain a conference call telephone number.

Interested parties are also invited to participate in these proceedings by submitting written views, data, or comments. All communications concerning these proceedings should identify the appropriate docket number and may be submitted by any of the following methods:

• Web site: http://www.regulations.gov. Follow the online instructions for submitting comments.

• Fax: 202-493-6478.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

FOR FURTHER INFORMATION CONTACT: Mr. Kurt Eichenlaub, Railroad Safety Specialist, FRA, 1200 New Jersey Avenue SE., Mailstop 25, Washington, DC 20590, (202) 493-6050, Kurt.Eichenlaub@dot.gov; or Mr. Karl Alexy, Staff Director, Hazardous Materials Division, FRA, 1200 New Jersey Avenue SE., Mailstop 25, Washington, DC 20590, (202) 493-6245 or Karl.Alexy@dot.gov.

SUPPLEMENTARY INFORMATION: The Secretary of Transportation (Secretary) has authority over all areas of railroad safety (49 U.S.C. 20101 et seq.) and has delegated this authority to FRA. 49 CFR 1.89(a) through (q). The Federal hazardous materials transportation laws, 49 U.S.C. 5101 et seq., and the Federal Hazardous Materials Regulations.

(HMR; Title 49 Code of Federal Regulations (CFR) Parts 171-180) govern the safe, efficient, and secure transportation of hazardous materials in commerce. PHMSA administers the HMR, and FRA consults directly with PHMSA on regulatory matters that affect the transportation of hazardous materials by rail. FRA is delegated responsibility to carry out the functions vested in the Secretary of Transportation with regard to the transportation or shipment of hazardous materials by railroad. 49 CFR 1.89(j).

In an effort to continually improve the agencies' hazardous materials safety program, FRA and PHMSA are currently conducting a comprehensive review of operational factors that affect the safety of the transportation of hazardous materials by rail. The agencies invite all stakeholders and interested parties to participate in this comprehensive review. We will consider all relevant comments, data, and other input presented at this public meeting. As noted above, FRA has established a public docket (Docket No. FRA-2013-0067) to provide interested parties with a central location to both send and review relevant information concerning the transportation of hazardous materials by rail. An agenda outlining the scope of the meeting will be posted in the public docket at least 30 days prior to the meeting. FRA and PHMSA encourage meeting participants to focus their discussion at the meeting on the topics identified in the agenda.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Robert C. Lauby,
Deputy Associate Administrator for Regulatory and Legislative Operations.

[FR Doc. 2013-17201 Filed 7-17-13; 8:45 am]

BILLING CODE 4910-06-P